DEPARTMENT OF THE INTERIOR

National Park Service

[NPS-WASO-NAGPRA-18366; PPWOCRADN0-PCU00RP15.R50000]

Notice of Intent To Repatriate Cultural Items: Portland Art Museum, Portland, OR

AGENCY: National Park Service, Interior.

ACTION: Notice.

SUMMARY: The Portland Art Museum, in consultation with the appropriate Indian tribes or Native Hawaiian organizations, has determined that the cultural items listed in this notice meet the definition of sacred objects. Lineal descendants or representatives of any Indian tribe or Native Hawaiian organization not identified in this notice that wish to claim these cultural items should submit a written request to the Portland Art Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Portland Art Museum at the address in this notice by September 4, 2015.

ADDRESSES: Deana Dartt, Curator of Native American Art, Portland Art Museum, 1219 SW. Park Ave., Portland, OR 97209, telephone (503) 276-4294, email deana.dartt@pam.org.

SUPPLEMENTARY INFORMATION: Notice is here given in accordance with the Native American Graves Protection and Repatriation Act (NAGPRA), 25 U.S.C. 3005, of the intent to repatriate cultural items under the control of the Portland Art Museum that meet the definition of sacred objects under 25 U.S.C. 3001.

This notice is published as part of the National Park Service's administrative responsibilities under NAGPRA, 25 U.S.C. 3003(d) (3). The determinations in this notice are the sole responsibility of the museum, institution, or Federal agency that has control of the Native American cultural items. The National Park Service is not responsible for the determinations in this notice.

History and Description of the Cultural Items

Between 1970 and 1990, 18 medicine bundles were removed from the Crow Indian Reservation in Crow Agency, MT. The bundles were sold over two decades by Native antiquities and arts dealers to collector Elizabeth Cole Butler. Butler donated them to the museum beginning in the 1980s and until her death in 2004. The 18 bundles are all considered sacred objects.

The 18 medicine bundles were first identified as Crow by the dealers that sold them to Butler. In 1994 Crow tribal representative John Pretty-on-Top responded to the NAGPRA summary of Crow objects sent to the Crow Tribe of Montana in 1993. Pretty-on-Top concluded that the bundles would not be of interest to the tribe as a whole since bundles are exclusively owned by individuals. In August 2014 Timothy McCleary was consulted about the bundles. On September 17, 2014, McCleary presented the issue of the 18 bundles held by the Portland Art Museum to the Crow Cultural Committee. The Crow Cultural Committee determined that a claim for the 18 sacred objects should be made by the Crow Tribe of Montana.

Determinations Made by the Portland Art Museum

Officials of the Portland Art Museum have determined that:

• Pursuant to 25 U.S.C. 3001(3)(C), the 18 cultural items described above are specific ceremonial objects needed by traditional Native American religious leaders for the practice of traditional Native American religions by their present-day adherents.

• Pursuant to 25 U.S.C. 3001(2), there is a relationship of shared group identity that can be reasonably traced between the sacred objects and the Crow Tribe of Montana.

Additional Requestors and Disposition

Lineal descendants or representatives of any Indian tribe or Native Hawaiian organization not identified in this notice that wish to claim these cultural items should submit a written request with information in support of the claim to Deana Dartt, Portland Art Museum, 1219 SW. Park Ave., Portland, OR 97205, telephone (503) 276-4294, email deana.dartt@pam.org, by September 4, 2015. After that date, if no additional claimants have come forward, transfer of control of the sacred objects to the Crow Tribe of Montana may proceed.

The Portland Art Museum is responsible for notifying the Crow Tribe of Montana that this notice has been published.

Dated: June 29, 2015.
Melanie O'Brien,
Manager, National NAGPRA Program.

[FR Doc. 2015-19238 Filed 8-4-15; 8:45 am]

BILLING CODE 4310-12-P